TENNESSEE VALLEY AUTHORITY

Meeting of the Regional Resource Stewardship Council

AGENCY: Tennessee Valley Authority (TVA).

ACTION: Notice of meeting.

SUMMARY: The TVA Regional Resource Stewardship Council (RRSC) will hold a meeting on Monday and Tuesday, July 30-31, 2018, to consider various matters. The RRSC was established to advise TVA on its natural resources and stewardship activities and the priority to be placed among competing objectives and values. Notice of this meeting is given under the Federal Advisory Committee Act (FACA).

DATES: The meeting will be held on Monday-Tuesday, July 30-31, 2018, from 8:30 a.m. to 12 p.m., EDT.

ADDRESSES: The meeting will be held at The Westin Chattanooga, 801 Pine Street, Chattanooga, Tennessee 37402. An individual requiring special accommodation for a disability, should let the contact below know at least a week in advance.

FOR FURTHER INFORMATION CONTACT: Barbie Perdue, 865-632-6113, baperdue@tva.gov.

SUPPLEMENTARY INFORMATION: The meeting agenda includes the following items:

1. Introductions

2. Update on Floating Cabins Regulations

3. Presentation on the Proposed Natural Resource Plan Refresh and the scoping of the accompanying Environmental Impact Statement

4. Tennessee Water Supply Update Report

5. Public Comments

6. Council Discussion and Advice

The meeting is open to the public. Verbal comments from the public will be accepted Tuesday, July 31 starting at 9:30 a.m., EDT, for no more than one hour. Registration to speak is from 8:00 a.m. to 9:00 a.m., EDT, at the door. Handout materials should be limited to one printed page. Written comments may be sent by mailing to the Regional Resource Stewardship Council, Tennessee Valley Authority, 400 West Summit Hill Drive, WT-9-D, Knoxville, Tennessee 37902.

Dated: July 3, 2018.
Joseph J. Hoagland,
Vice President, Enterprise Relations and Innovation, Tennessee Valley Authority.

[FR Doc. 2018-14700 Filed 7-9-18; 8:45 am]

BILLING CODE 8120-08-P